DEPARTMENT OF ENERGY

Federal Energy Regulatory Commission

[Project No. 14863-001]

BM Energy Park, LLC; Notice of Surrender of Preliminary Permit

Take notice that BM Energy Park LLC, permittee for the proposed Banner Mountain Pumped Storage Hydro Project, has requested that its preliminary permit be terminated. The permit was issued on May 8, 2018 and would have expired on April 30, 2021.¹ The project would have been located in Converse County, Wyoming.

¹ 163 FERC ¶ 62,080 (2018).

The preliminary permit for Project No. 14863 will remain in effect until the close of business, April 9, 2021. But, if the Commission is closed on this day, then the permit remains in effect until the close of business on the next day in which the Commission is open.² New applications for this site may not be submitted until after the permit surrender is effective.

² 18 CFR 385.2007(a)(2) (2020).

Dated: March 10, 2021.
Kimberly D. Bose,
Secretary.

[FR Doc. 2021-05381 Filed 3-15-21; 8:45 am]

BILLING CODE 6717-01-P